DEPARTMENT OF VETERANS AFFAIRS

[OMB Control No. 2900-0673]

Agency Information Collection (One-VA Identification Verification Card) Activities Under OMB Review

AGENCY: Office of Operations, Security, and Preparedness, Department of Veterans Affairs.

ACTION: Notice.

SUMMARY: In compliance with the Paperwork Reduction Act (PRA) of 1995 (44 U.S.C. 3501-3521), this notice announces that The Office of Operations, Security, and Preparedness, Department of Veterans Affairs, will submit the collection of information abstracted below to the Office of Management and Budget (OMB) for review and comment. The PRA submission describes the nature of the information collection and it's expected cost and burden; it includes the actual data collection instrument.

DATES: Comments must be submitted on or before May 29, 2015.

ADDRESSES: Submit written comments on the collection of information through www.Regulations.gov or to VA's OMB Desk Officer, Office of Information and Regulatory Affairs, Office of Management and Budget, Attn: VA Desk Officer; 725 17th St. NW., Washington, DC 20503 or sent through electronic mail to oira_submission@omb.eop.gov. Please refer to “OMB Control No. 2900-0673” in any correspondence. During the comment period, comments may be viewed online through the FDMS.

FOR FURTHER INFORMATION CONTACT: Crystal Rennie, Enterprise Records Service (005R1B), Department of Veterans Affairs, 810 Vermont Avenue NW., Washington, DC 20420, (202) 632-7492, or email crystal.rennie@va.gov. Please refer to “OMB Control No. 2900-0673 in any correspondence.”

SUPPLEMENTARY INFORMATION:

Title: Request for One-VA Identification Card.

OMB Control Number: 2900-0673.

Type of Review: Revision of a currently approved collection.

Abstract: VA PIV Enrollment System Portal is use to collect pertinent information from Federal employees, contractors, and affiliates prior to issuing a Department identification credential. VA will use the data collected to personalize, print, and issue a PIV card.

An agency may not conduct or sponsor, and a person is not required to respond to a collection of information unless it displays a currently valid OMB control number. The Federal Register Notice with a 60-day comment period soliciting comments on this collection of information was published on December 9, 2014, at page 75864.

Affected Public: Federal government.

Estimated Annual Burden: 8,333 hours.

Estimated Average Burden per Respondent: 5 minutes.

Frequency of Response: On Occasion.

Estimated Number of Respondents: 100,000.

By direction of the Secretary.
Crystal Rennie,
Program Analyst, Enterprise Records Service.

[FR Doc. 2015-09885 Filed 4-28-15; 8:45 am]

BILLING CODE 8320-01-P